SMALL BUSINESS ADMINISTRATION

[Disaster Declaration # 11272]

Iowa Disaster Number IA-00016

AGENCY: U.S. Small Business Administration.

ACTION: Amendment 1.

SUMMARY: This is an amendment of the Presidential declaration of a major disaster for Public Assistance Only for the State of Iowa (FEMA—1763—DR), dated 05/27/2008.

Incident: Severe Storms, Tornadoes, and Flooding.

Incident Period: 05/25/2008 and continuing.

Effective Date: 06/20/2008.

Physical Loan Application Deadline Date: 07/28/2008.

ADDRESSES: Submit completed loan applications to: U.S. Small Business Administration, Processing AND Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of IOWA, dated 05/27/2008, is hereby amended to include the following areas as adversely affected by the disaster.

Primary Counties: Wapello, Benton, Bremer, Cedar, Fremont, Mahaska, Cass, Clinton, Decatur, Greene, Guthrie, Hamilton, Montgomery, Poweshiek, Chickasaw, Warren, Allamakee, Fayette, Johnson, Jones, Page, Adair, Hancock, Humboldt, Kossuth, Madison, Taylor, Webster.

All other information in the original declaration remains unchanged.

(Catalog of Federal Domestic Assistance Number 59008)

James E. Rivera,
Acting Associate Administrator for Disaster Assistance.

[FR Doc. E8-15291 Filed 7-3-08; 8:45 am]

BILLING CODE 8025-01-P